DEPARTMENT OF HEALTH AND HUMAN SERVICES

Administration for Children and Families

Delegations of Authority

Notice is hereby given that on January 17, 2001, the Assistant Secretary for the Administration for Children and Families redelegated to the Principal Deputy Assistant Secretary, all the authorities delegated to the Assistant Secretary for Children and Families by the Secretary of the Department of Health and Human Services on August 20, 1991, September 28, 1994, and September 16, 1997. This delegation does not include any authority delegated to the Assistant Secretary which was not authorized to be redelegated and is subject to any limitations or conditions contained in the delegations from the Secretary.

Dated: January 17, 2001.
Olivia A. Golden,
Assistant Secretary for Children and Families.

[FR Doc. 01-2060 Filed 1-23-01; 8:45 am]

BILLING CODE 4184-01-P